DEPARTMENT OF LABOR

Employment and Training Administration

Workforce Investment Act of 1998 (WIA); Lower Living Standard Income Level (LLSIL); Correction

AGENCY: Employment and Training Administration, Labor.

ACTION: Notice; correction.

SUMMARY: The Employment and Training Administration (ETA) published in the Federal Register on Wednesday, March 28, 2012 an announcement of the 2012 LLSIL (Vol. 77, No. 60, page 18865, see http://www.gpo.gov/fdsys/pkg/FR-2012-03-28/pdf/2012-7377.pdf). The announcement included a reassignment of the Virgin Islands (VI) to the South jurisdiction. This correction returns the VI to the Northeast region, and is retroactive to March 28, 2012.

No other corrections are made, and the remainder of the LLSIL tables published on March 28, 2012 remain the same.

DATES: This Notice is effective on March 28, 2012.

For Further Information Or Questions On LLSIL: Please contact Samuel Wright, Department of Labor, Employment and Training Administration, 200 Constitution Avenue NW., Room C-44510, Washington, DC 20210; Telephone: 202-693-2870; Fax: 202-693-3015 (these are not toll-free numbers); Email address: wright.samuel.e@dol.gov. Individuals with hearing or speech impairments may access the telephone number above via Text Telephone (TTY/TDD) by calling the toll-free Federal Information Relay Service at 1-877-889-5627 (TTY/TDD).

Signed at Washington, DC, this 1st day of October, 2012.
Jane Oates,
Assistant Secretary for Employment and Training.

[FR Doc. 2012-25007 Filed 10-10-12; 8:45 am]

BILLING CODE 4510-FT-P